ENVIRONMENTAL PROTECTION AGENCY

[FRL-7063-8]

Privacy Act of 1974: System of Records, Creation of Eleven New Privacy Act System of Records

AGENCY: Environmental Protection Agency (EPA).

ACTION: Notice.

SUMMARY: The Environmental Protection Agency is establishing eleven new Privacy Act system of records.

EFFECTIVE DATES: The proposed amendments will be effective without further notice on November 10, 2001 unless comments received require a contrary determination.

ADDRESSES: Send written comments to Judy E. Hutt, Agency Privacy Act Officer, 1200 Pennsylvania Ave., (M/C 2822) Washington, DC 20460.

FOR FURTHER INFORMATION CONTACT: Judy E. Hutt, Agency Privacy Act Officer, 1200 Pennsylvania Ave. (M/C 2822) Washington, DC 20460, hutt.judy@epa.gov.

SUPPLEMENTARY INFORMATION:

New System of Records

1. Superfund Cost Recovery Accounting Information System

This system is used to recover costs from potentially responsible parties (PRPs) for government cleanup efforts. The system maintains documentation in support of amounts billed to PRPs. It consists of several components that will ultimately be integrated into an existing document management system called SCORPIOS. The previously existing functions of SCORPIOS, with the inclusion of the record component, will remain unchanged.

2. EPA Personnel Emergency Contact Files

This system is intended to cover all emergency contact files in every EPA office. There is some central policy direction, but the collection and maintenance is decentralized. The Manager of the Emergency Operations Center will serve as the system manager, along with emergency coordinators in each other affected office. The notice is written with enough flexibility so that local office practices for emergency contact information can vary and still fall within the scope of the system notice.

3. Time Sharing Services Management System Registration Files

This system contains the records that control the access to the Agency's computer systems and tracks usage for accounting purposes.

4. Risk Management Plan Review Access List

This system contains emergency contact information used to control access to risk management plans and to support communications with authorized users. The Chemical Emergency Preparedness and Prevention Office, Office of Solid Waste and Emergency Response, operates the system.

5. IGOR (Inspector General Operations and Reporting System)

The establishment of the IGOR system in the Office of Inspector General resulted in a restructuring of the OIG systems of records. Two existing systems (for investigative files and personnel security files) migrated to the IGOR structure. One new OIG system for audit, assignment, and time sheet files has been created.

6. OCEFT

The Office of Criminal Enforcement, Forensics and Training independently prepared a revision of its own system notice and developed two additional systems. That effort has been incorporated into this report. The two new systems are for tracking investigations and for recording training activities.

7. Libby Asbestos Exposure Assessment Records

This system was created to support EPA's Comprehensive Energy Recovery & Criminal Liability Act emergency removal process at the Libby Asbestos Site. It provides information assessing exposure pathways and exposure outcomes due to amphibole asbestos, thus enabling EPA to provide long-term protection of public health and welfare.

8. Emissions Inspection and Maintenance Records

The new system Emissions Inspection and Maintenance Records for Federal Employees Parking at Federal Parking Facilities, is EPA's first government-wide system of records. It will bear the number EPA-GOVT-1, and it will appear as the last system in the compilation. This new system notice will not only cover records maintained by EPA, but it will also include comparable records maintained by other agencies. The system notice covers emissions inspection and maintenance records for federal employees parking at federal parking facilities. Several other agencies publish government-wide system of records notices that cover either records that the publishing agency owns or records that are substantially the same throughout government. The publication of a single government-wide system notice is an efficient way to cover the same records at many agencies. As the publishing agency for the system, EPA will not have any direct responsibility for managing the records at other agencies. The notice directs employees seeking access to or correction of records to an office of the agency maintaining the record. Any agency that maintains these records in a substantially different manner may publish its own local notice.

Dated: September 5, 2001.
Margaret Schneider,
Acting Assistant Administrator, Office of Environmental Information.

General Routine Uses Applicable to More Than One System of Records

A. Disclosure for Law Enforcement Purposes

Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information

Information may be disclosed to any source from which additional information is requested (to the extent necessary to identify the individual, inform the source of the purpose of the request, and to identify the type of information requested), when necessary to obtain information relevant to an agency decision concerning retention of an employee or other personnel action (other than hiring), retention of a security clearance, the letting of a contract, or the issuance or retention of a grant, or other benefit.

C. Disclosure to Requesting Agency

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget

Information may be disclosed to the Office of Management and Budget at any stage in the legislative coordination and clearance process in connection with private relief legislation as set forth in OMB Circular No. A-19.

E. Disclosure to Congressional Offices

Information may be disclosed to a congressional office from the record of an individual in response to an inquiry from the congressional office made at the request of the individual.

F. Disclosure to Department of Justice

Information may be disclosed to the Department of Justice, or in a proceeding before a court, adjudicative body, or other administrative body before which the Agency is authorized to appear, when:

1. The Agency, or any component thereof; or

2. Any employee of the Agency in his or her official capacity; or

3. Any employee of the Agency in his or her individual capacity where the Department of Justice or the Agency has agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure to the National Archives

Information may be disclosed to the National Archives and Records Administration in records management inspections.

H. Disclosure to Contractors, Grantees, and Others

Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures for Administrative Claims, Complaints, and Appeals

Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management

Information from this system of records may be disclosed to the Office of Personnel Management pursuant to that agency's responsibility for evaluation and oversight of Federal personnel management.

K. Disclosure in Connection With Litigation

Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

EPA-40

System Name:

Inspector General's Operation and Reporting (IGOR) System Investigative Files.

System Location:

Enterprise Technology Services Division, Environmental Protection Agency, Research Triangle Park, NC 27711.

Categories of Individuals Covered by the System:

Subjects, complainants, and witnesses in OIG investigations; OIG employees who perform investigations; and individuals who receive the results of investigations.

Categories of Records in the System:

Investigative file information, including the names of the subjects of OIG investigations; the cities, States, and EPA regions in which the subjects were located; the names of complainants in OIG investigations; and the names of important witnesses interviewed during OIG investigations.

Authority for Maintenance of the System (includes any revisions or amendments):

Inspector General Act of 1978, 5 U.S.C. app. 3.

Purpose(s):

To conduct and supervise audits and investigations relating to programs and operations of the EPA.

Routine Uses of Records Maintained in the System, Including Categories of Users and the Purposes of Such Uses:

General Routine Uses A, B, C, D E, F, G, H, I, and K apply to this system. Records may also be disclosed:

1. To any source, private or public, to the extent necessary to secure from such source information relevant to a legitimate EPA investigation, audit, decision, or other inquiry.

2. To a Federal agency responsible for considering suspension or debarment action where such record would be relevant to such action.

3. To the Department of Justice to obtain its advice on Freedom of Information Act matters.

4. In response to a lawful subpoena issued by a Federal agency.

5. To the Department of the Treasury and the Department of Justice when EPA is seeking an ex parte court order to obtain taxpayer information from the Internal Revenue Service.

6. To a Federal, State, local, foreign, or international agency, or other public authority, for use in a computer matching program, as that term is defined in 5 U.S.C. 552a(a)(8).

7. To a public or professional licensing organization if the record indicates, either by itself or in combination with other information, a violation or potential violation of professional standards, or reflects on the moral, educational, or professional qualifications of an individual who is licensed or who is seeking to become licensed.

8. To any person when disclosure of the record is needed to enable the recipient of the record to take action to recover money or property of the EPA, when such recovery will accrue to the benefit of the United States, or when disclosure of the record is needed to enable the recipient of the record to take appropriate disciplinary action to maintain the integrity of EPA programs or operations.

9. To the Office of Government Ethics to comply with agency reporting requirements in 5 CFR part 2638, subpart F.

10. To officers and employees of other Federal agencies for the purpose of conducting quality assessments of the OIG.

11. To the news media and public when a public interest justifies the disclosure of information on public events such as indictments or similar activities.

12. To Members of Congress and the public in the OIG's Semiannual Report to the Congress when the Inspector General determines that the matter reported is significant.

13. To the public when the matter under audit or investigation has become public knowledge, or when the Inspector General determines that such disclosure is necessary to preserve confidence in the integrity of the OIG audit or investigative process or is necessary to demonstrate the accountability of EPA officers, employees, or individuals covered by this system, unless it is determined that disclosure of the specific information in the context of a particular case could reasonably be expected to constitute an unwarranted invasion of personal privacy.

Policies and Practices For Storing, Retrieving, Accessing, Retaining, and Disposing of Records in the System:

Storage:

In a computer database.

Retrievability:

By names of subjects, complainants, and important witnesses interviewed during investigations; investigative case file numbers; and the names and social security numbers of OIG employees.

Safeguards:

Computer records are maintained in a secure, password protected computer system. All records are maintained in secure, access-controlled areas or buildings.

Retention and Disposal:

Records are retained and disposed of in accordance with EPA Records Control Schedules, Inspector General Records, approved by the National Archives and Records Administration.

System Manager(s) and Address:

Assistant Inspector General for Management, Office of Inspector General, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Record Access Procedure:

To the extent permitted under the Privacy Act of 1974, 5 U.S.C. 552a(j), (k)(2) & (k)(5) this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source. Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Subjects of an investigation; individuals with whom the subjects are or were associated (e.g., colleagues, business associates, acquaintances, or relatives); Federal, State, local, international, and foreign investigative or law enforcement agencies; other government agencies; confidential sources; complainants; witnesses; concerned citizens; and public source materials.

Systems Exempted From Certain Provisions of the Act:

Under 5 U.S.C. 552a(j)(2), this system is exempt from the following provisions of the Privacy Act of 1974, as amended: 5 U.S.C. 552a(c)(3) and (4); (d); (e)(1), (e)(2), (e)(3), (e)(4)(G), (e)(4)(H), (e)(5), and (e)(8); (f); and (g). Under 5 U.S.C. 552a(k)(2) and (k)(5), this system is exempt from the following provisions of the Privacy Act of 1974 as amended, subject to the limitations set forth in this subsection; 5 U.S.C. 552a(c)(3); (d); (e)(1), (e)(4)(G), (e)(4)(H), and (f)(2) through (5).

EPA-41

System Name:

Inspector General's Operation and Reporting (IGOR) System Personnel Security Files.

Security Classification:

This system has no overall security classification. However, some records within the system may bear a national defense/foreign policy classification of Confidential, Secret, or Top Secret.

System Location:

Enterprise Technology Services Division, Environmental Protection Agency, Research Triangle Park, NC 27711.

Categories of Individuals Covered by the System:

Subjects of personnel security and suitability investigations (e.g., national agency checks and inquiries, background investigations, and periodic reinvestigations) conducted by or for the OIG or the Office of Personnel Management, including present and former EPA employees, consultants, contractors, and subcontractors in national security and/or public trust positions; and applicants for national security and/or public trust positions at EPA.

Categories of Records in the System:

Personnel security and suitability files, including the subject's social security number, name, title, EPA office, EPA organization mail code, General Schedule occupation series and grade, geographic location, type of employee (e.g., EPA employee, EPA OIG employee, or contractor employee), location of Official Personnel File folder, date of birth, place of birth, type of investigation conducted, date investigation completed, date the completed investigation was received by EPA OIG, date completed investigation was adjudicated by EPA OIG, case number assigned by EPA OIG Personnel Security Staff, type of security clearance, date of security clearance, and sensitivity of the position occupied.

Authority for Maintenance of the System (includes any revisions or amendments):

Inspector General Act of 1978, 5 U.S.C. app. 3; Executive Order 12958 (Apr. 12, 1995); Executive Order 12968 (Aug. 2, 1995).

Purpose(s):

To support personnel security investigations for EPA staff, contractor, and others required to maintain clearances.

Routine Uses of Records Maintained in the System, Including Categories of Users and the Purposes of Such Uses:

General routine uses A, B, C, D, E, F, G, H, I, J, and K apply to this system. Records may also be disclosed:

To officers and employees of other Federal agencies for the purpose of conducting quality assessments of the OIG.

Policies and Practices for Storing, Retrieving, Accessing, Retaining, and Disposing of Records in the System:

Storage:

In a computer database.

Retrievability:

By the name, social security number, or file number of the subjects of background investigations.

Safeguards:

Computer records are maintained in a secure, password protected computer system. All records are maintained in secure, access-controlled areas or buildings.

Retention and Disposal:

Records are retained and disposed of in accordance with EPA Records Control Schedules, Inspector General Records, approved by the National Archives and Records Administration.

System Manager(s) and Address:

Assistant Inspector General for Mission Systems, Office of Inspector General, Environmental Protection Agency, Ariel Rios Building, 1200 Pennsylvania Avenue, NW, Washington, DC 20460.

Notification Procedures:

Any individual who wants to know whether this system of records contains a record about him or her, who wants access to his or her record, or who wants to contest the contents of a record, should make a written request to the System Manager.

Record Access Procedure:

To the extent permitted under the Privacy Act of 1974, 5 U.S.C. 552a(k)(2) & (k)(5), this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source. Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Subjects of a personnel security or suitability investigation; individuals with whom the subjects are or were associated (e.g., colleagues, business associates, acquaintances, or relatives); Federal, State, local, international, and foreign investigative or law enforcement agencies; other government agencies; confidential sources; complainants; witnesses; concerned citizens; and public source materials.

Systems Exempted From Certain Provisions of the Act:

Under 5 U.S.C. 552a(k)(1), (k)(2), and (k)(5), this system is exempt from the following provisions of the Privacy Act of 1974 as amended, subject to the limitations set forth in this subsection; 5 U.S.C. 552a(c)(3); (d); (e)(1), (e)(4)(G), (e)(4)(H), and (f)(2) through (5).

EPA-42

System Name:

Inspector General's Operation and Reporting (IGOR) System Audit, Assignment, and Timesheet Files.

System Location:

Enterprise Technology Services Division, Environmental Protection Agency, Research Triangle Park, NC 27711.

Categories of Individuals Covered by the System:

OIG employees; individuals who request audits or special projects; names of individual auditees.

Categories of Records in the System:

Incoming audit requests, assignment sheets, work papers, review sheets, and reports; incoming special project requests, assignment sheets, and memorandums or briefing materials; and OIG employee timesheets.

Authority for Maintenance of the System (includes any revisions or amendments):

Inspector General Act of 1978, 5 U.S.C. app. 3.

Purpose(s):

To assist the OIG in planning audits, investigations, and other operations of the OIG; monitoring OIG performance of its activities; and reporting results.

Routine Uses of Records Maintained in the System, Including Categories of Users and the Purposes of Such Uses:

General routine uses A, D E, F, G, H, I, J, and K apply to this system.

Policies and Practices for Storing, Retrieving, Accessing, Retaining, and Disposing of Records in the System:

Storage:

In a computer database.

Retrievability:

By assignment number, audit report number, the name and social security number of the assigned OIG auditor, or the name of the audit requestor. The general assignment module contains records that are retrieved by assignment number, and the name and Social Security Number of the OIG employee performing the assignment.

Safeguards:

Computer records are maintained in a secure, password protected computer system. All records are maintained in secure, access-controlled areas or buildings.

Retention and Disposal:

Records are retained and disposed of in accordance with EPA Records Control Schedules, Inspector General Records, approved by the National Archives and Records Administration.

System Manager(s) and Address:

Assistant Inspector General for Mission Systems, Office of Inspector General, Environmental Protection Agency, Ariel Rios Building, 1200 Pennsylvania Avenue NW, Washington, DC 20460.

Notification Procedures:

Any individual who wants to know whether this system of records contains a record about him or her, who wants access to his or her record, or who wants to contest the contents of a record, should make a written request to the System Manager.

Records Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Record subject, OIG supervisors, other EPA employees.

EPA-43

System Name:

Time Sharing Services Management System Registration Files.

System Location:

National Computer Center, Environmental Protection Agency, Research Triangle Park, NC 27711.

Categories of Individuals Covered by the System:

Employees, contractors, consultants, volunteers, and external users who have access to EPA computers.

Categories of Records in the System:

Name, address, telephone number, and user identification number.

Authority for Maintenance of the System (includes any revisions or amendments):

5 U.S.C. 301; 42 U.S.C. 4370e.

Purpose(s):

To regulate access to the EPA computer system, maintain computer security, and to allocate costs to computer users.

Routine Uses of Records Maintained in the System, Including Categories of Users and the Purposes of Such Uses:

General routine uses A, D, E, F, G, H, I, and K apply to this system. Records may also be disclosed:

1. To other federal agencies authorized to register external users.

Policies and Practices for Storing, Retrieving, Accessing, Retaining, and Disposing of Records in the System:

Storage:

In a computerized database.

Retrievability:

By employee name, user identification name, and any other data element.

Safeguards:

Computer records are maintained in a secure, password protected computer system. Any paper records are maintained in lockable file cabinets. All records are maintained in secure, access-controlled areas or buildings.

Retention and Disposal:

Records are kept at least as long as the record subject is affiliated with EPA and has used the computer within the last year.

System Manager (s) and Address:

Director, National Technology Services Division.

Notification Procedures:

Any individual who wants to know whether this system of records contains a record about him or her, who wants access to his or her record, or who wants to contest the contents of a record, should make a written request to the System Manager.

Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Record subjects, account managers, and ADP coordinators.

EPA-44

System Name:

EPA Personnel Emergency Contact Files.

System Location:

Each Headquarters Office, Region, or other EPA facility may maintain emergency contact files. See the appendix for addresses of regional and other offices.

Categories of Individuals Covered by the System:

EPA employees, contractors, and consultants, and emergency response personnel from other government agencies who may need to be contacted in case of an emergency.

Categories of Records in the System:

Name, office location, scope of the record subject's responsibilities, home telephone number, home address, email address, pager number, cell phone number, and emergency contact person. Each office may collect a different set of information.

Authority for Maintenance of the System (includes any revisions or amendments):

42 U.S.C. 5121 et seq.; Executive Order 12656 (Nov. 18, 1989).

Purpose(s):

To contact employees, contractors, consultants, and others in case of an emergency or other event that may require their assistance.

Routine Uses of Records Maintained in the System, Including Categories of Users and the Purposes of Such Uses:

General routine uses A, E, F, G, H, and K apply to this system. Records may also be disclosed:

1. To Federal, State, local, foreign, tribal, or other public authorities or to private companies or individuals involved with an emergency (or related exercise) that may require EPA assistance.

Policies and Practices for Storing, Retrieving, Accessing, Retaining, and Disposing of Records in the System:

Storage:

On paper or in a computerized database.

Retrievability:

By employee name and responsibility.

Safeguards:

Computer records are maintained in a secure, password protected computer system. Paper records are maintained in lockable file cabinets. All records are maintained in secure, access-controlled areas or buildings.

Retention and Disposal:

Records are kept as long as the record subject is affiliated with EPA and has emergency responsibilities.

System Manager(s) and Address:

Manager, Emergency Operations Center, Environmental Protection Agency, Ariel Rios Building, 1200 Pennsylvania Avenue NW., Washington, DC 20460. Emergency coordinators in regions and other offices may also be responsible for records.

Notification Procedures:

Any individual who wants to know whether this system of records contains a record about him or her, who wants access to his or her record, or who wants to contest the contents of a record, should make a written request to the System Manager.

Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Record subjects.

EPA-45

System Name:

Risk Management Plan Review Access List.

System Location:

Chemical Emergency Preparedness and Prevention Office, Office of Solid Waste and Emergency Response, Environmental Protection Agency, Ariel Rios Building, 1200 Pennsylvania Avenue NW., Washington, DC 20460.

Categories of Individuals Covered by the System:

Federal, state, and local government officials, qualified researchers, and others who are “covered persons” under 42 U.S.C. 7412(r) and permitted to have access to risk management plans.

Categories of Records in the System:

Name, title, position, telephone number, fax number, email address, user ID, and password.

Authority for Maintenance of the System (includes any revisions or amendments):

42 U.S.C. 7412(r).

Purpose(s):

To control access to risk management plans and to support communications with authorized users.

Routine Uses of Records Maintained in the System Including Categories of Users and the Purposes of Such Uses:

General routine uses A, B, E, F, G, H, and K apply to this system. Records may also be disclosed:

1. To employers and to government agencies to verify the credentials of users.

Policies and Practices for Storing, Retrieving, Accessing, Retaining, and Disposing of Records in the System:

Storage:

In a computerized database.

Retrievability:

By name, user identification name, and any other data element.

Safeguards:

Computer records are maintained in a secure, password protected computer system. All records are maintained in secure, access-controlled areas or buildings.

Retention and Disposal:

Records are kept at least as long as the record subject is authorized to access risk management plans.

System Manager(s) and Address:

Director, Program Implementation and Coordination Division, Chemical Emergency Preparedness and Prevention Office, Office of Solid Waste and Emergency Response.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Record subjects and the offices that employ them.

EPA-46

System Name:

OCEFT/NEIC Master Tracking System.

System Location:

National Enforcement Investigations Center, Office of Criminal Enforcement, Forensics & Training, Environmental Protection Agency, P.O. Box 25227, Denver Federal Center, Denver, Colorado 80225.

Categories of Individuals Covered by the System:

Subjects of investigation about whom data has been collected by criminal investigators of the Office of Criminal Enforcement, Forensics and Training, Criminal Investigation Division, and assembled in the form of investigative reports concerning violations of federal environmental statutes and regulations; persons who provide information and evidence that is used to substantiate environmental criminal violations are also covered by this system of records.

Categories of Records in the System:

1. Computer Indexes: Computerized records systems for internal tracking and management of NEIC environmental enforcement technical support projects, and includes for each technical support project, a description of the project, a schedule of project milestones, the current project status, a listing of personnel working on the project, and the environmental statutes at issue. Each project may be named, for either a company or an individual, depending on the nature of the violations being investigated or on the basis of the type of support activity being provided by OCEFT/NEIC. These indexes also contain enforcement data such as planned dates for search warrants or facility inspections and types of sampling or analyses to be conducted.

2. Project Files. Documentary information relating to an enforcement matter to which OCEFT/NEIC is providing support, including, but are not limited to, correspondence (case coordination reports, memos of conversation, and other records of communication relating to the matter); witness interviews (on-site statements of interviews generated by either an NEIC investigator or another agency or person); regulatory history (permits and reports generated as a result of normal program activity); technical support (project reports generated as a result of the investigation); inspection notes; financial information; sampling and laboratory notes and other related investigative information.

Authority for Maintenance of the System (includes any revisions or amendments):

Reorganization Plan No. 3 of 1970 (5 U.S.C. app. 1), effective December 2, 1970; Powers of Environmental Protection Agency, 18 U.S.C.3063; Comprehensive Environmental Response Compensation and Liability Act, 42 U.S.C. 9603; Resource Conservation and Recovery Act, 42 U.S.C. 6928; Federal Water Pollution Control Act, 33 U.S.C. 1319, 1321; Toxic Substances Control Act, 15 U.S.C. 2614, 2615; Clean Air Act, 42 U.S.C. 7413; Federal Insecticide, Fungicide and Rodenticide Act, 7 U.S.C. 136j, 136l; Safe Drinking Water Act, 42 U.S.C. 300h-2, 300i-1; Emergency Planning and Community Right-To-Know Act of 1986, 42 U.S.C. 11045; and the Marine Protection, Research, and Sanctuaries Act of 1972, 33 U.S.C. 1415.

Purpose(s):

To provide support in investigations of persons or organizations alleged to have violated any Federal environmental statute or regulation or, pursuant to a cooperative agreement with a state, local, or tribal authority, an environmental statute or regulation of such authority.

Routine Uses of Records Maintained in the System, Including Categories of Users and the Purposes of Such Uses:

General Routine Uses A, C, D, E, F, G, H, and K apply to this system.

Records may also be disclosed:

1. To a potential source of information to the extent necessary to elicit information or to obtain cooperation of that source in furtherance of an EPA criminal investigation.

2. To the Department of Justice for consultation about what information and records are required to be publicly released under federal law.

3. To a federal agency in response to a valid subpoena.

4. To Federal and state government agencies responsible for administering suspension and debarment programs.

5. To international law enforcement organizations if the information is relevant to a violation or potential violation of civil or criminal law or regulation within the jurisdiction of the organization or a law enforcement agency that is a member of the organization.

6. To the news media and public unless it is determined that the release of the specific information in the context of a particular case would constitute an unwarranted invasion of privacy.

7. To any person if the EPA determines that compelling circumstances affecting human health, the environment, or property warrant disclosure.

8. In connection with criminal prosecutions or plea negotiations to the extent that disclosure of the information is relevant and necessary to the prosecution or negotiation and except where court orders are otherwise required under section (b)(11) of the Privacy Act of 1974, 5 U.S.C. 552a(b)(11).

Policies and Practices for Storing, Retrieving, Accessing, Retaining, and Disposing of Records in the System:

Storage:

Hard copy files and computer databases.

Retrievability:

Project Files are assigned a project file number and records are maintained in numerical order. The computer index may use the project title, the name of an individual, or the name of an organization to retrieve data and records.

Safeguards:

Computer records are maintained in a secure, password protected computer system. Paper records are maintained in lockable file cabinets. All records are maintained in secure, access-controlled areas or buildings.

Retention and Disposal:

Computerized data from the system is retained for a period of ten years, then removed from the system and stored on hard disk. Project files relating to criminal investigations are retained according to EPA Records Schedules. Closed project files are retained no less than two years and no more than five years in the office. Criminal project files are destroyed by the Federal Records Center no less than five years and no more than fifteen years after the closing date depending on prosecution status. Project files relating to civil investigations are retained according to media specific EPA Records Retention schedules for civil investigations. Depending on the media, closed files are retained no less than 1 year and no more than 3 years in the office. Project files classified as disposable are retained by the Federal Records Center no less than three years and no more than eight years depending on the media. Project Files classified as permanent records are transferred from the Federal Records Center to the National Archives from 15-18 years after the closing date depending on the media.

System Manager(s) and Address:

Director, National Enforcement Investigations Center, Office of Criminal Enforcement, Forensics and Training, P.O. Box 25227, Denver Federal Center, Denver, Colorado 80225.

Notification Procedures:

Any individual who wants to know whether this system of records contains a record about him or her, who wants access to his or her record, or who wants to contest the contents of a record, should make a written request to the System Manager.

Record Access Procedure:

To the extent permitted under the Privacy Act of 1974, 5 U.S.C. 552a(j) or (k)(2), this system has been exempted from the provisions of the Privacy Act of 1974 that permit access and correction. Exemptions from access may be complete or partial, depending on the particular exemption applicable. However, EPA may, in its discretion, grant individual requests for access and correction if it determines that the exercise of these rights will not interfere with an interest that the exemption is intended to protect. Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

EPA employees and officials; employees of Federal contractors; employees of other Federal agencies and of State, local, tribal, and foreign agencies; witnesses; informants; public source materials, and other persons who may have information relevant to OCEFT/NEIC investigations.

Systems Exempted From certain Provisions of the Act:

Pursuant to 5 U.S.C. 552a(j)(2) this system is exempt from the following provisions of the Privacy Act: 5 U.S.C. 552a(c)(3) and (4); (d); (e)(1), (e)(2), (e)(3), (e)(4)(G), (e)(4)(H), (e)(5) and (e)(8); (f)(2) through (5); and (g). Pursuant to 5 U.S.C. 552a(k)(2), this system is exempt from the following provisions of the Privacy Act, subject to the limitations set forth in that subsection: 5 U.S.C. 552a(c)(3), (d), (e)(1), (e)(4)(G), (e)(4)(H), and (f)(2) through (5).

EPA-47

System Name:

OCEFT/NETI Training Registration and Administration Records.

System Location:

National Enforcement Training Institute, Office of Criminal Enforcement, Forensics, and Training, Office of Enforcement and Compliance Assurance, Environmental Protection Agency, Ariel Rios Federal Building, 1200 Pennsylvania Avenue, NW, Washington, D.C. 20460.

Categories of Individuals Covered by the System:

Federal, state, local, and tribal environmental enforcement personnel who are enrolled in or have attended OCEFT/NETI environmental enforcement related training.

Categories of Records in the System:

Cost and/or budget related data, student registrations and transcripts, course descriptions, course lists, course rosters, course catalogs, and other related records. Registrations and transcripts contain students' names, telephone numbers, e-mail addresses, mailing addresses, fax numbers, titles, and work affiliation.

Authority for Maintenance of the System (includes any revisions or amendments):

Pollution Prosecution Act of 1990, 42 U.S.C. 4321; Executive Order 9397 (Nov. 22, 1943).

Purpose(s):

To manage environmental enforcement related training data.

Routine Uses of Records Maintained in the System, Including Categories of Users and the Purposes of Such Uses:

General Routine Uses A, D, E, F, G, H, and K apply to this system.

Policies and Practices for Storing, Retrieving, Accessing, Retaining, and Disposing of Records in the System:

Storage:

Computer database.

Retrievability:

Files are retrieved by individuals using a log-in name and individually selected password.

Safeguards:

Computer records are maintained in a secure, password protected computer system. All records are maintained in secure, access-controlled areas or buildings. The computer system also maintains a user log that identifies and records persons who access and use the system.

Retention and Disposal:

Retained indefinitely.

System Manager(s) and Address:

Director, National Enforcement Training Institute, U.S. Environmental Protection Agency, Ariel Rios Building, 1200 Pennsylvania Ave. NW, Washington, D.C. 20460.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances. In addition, any individual who wants to know whether this system of records contains a record about him or her, who wants access to his or her record, or who wants to contest the contents of a record, may access the database using the “find self” feature. If the record is found, the user can personally update/correct the information contained in the record.

Contesting Records Procedure:

Requests for correction or amendment must identify the record to be changed and the corrective action sought. Complete EPA Privacy Act procedures are set out in 40 CFR part 16.

Record Source Categories:

Individual enrollees.

EPA-48

System Name:

Libby Asbestos Exposure Assessment Records

System Location:

Libby Exposure Assessment Document Repository, Technical Assistance Unit, Office of Ecosystem Protection and Remediation, U.S. Environmental Protection Agency, 999 18th Street, Suite 500, Denver, CO, 80202.

Categories of Individuals Covered by the System:

Individuals who volunteer for participation in the EPA-ATSDR Libby Asbestos medical testing-exposure assessment.

Categories of Records in the System:

Documents containing names, addresses, telephone numbers of individual volunteers; individual volunteer's vital statistics, medical histories and exposure history; results of laboratory tests and x-rays of volunteers. In addition, medical and health information pertaining to Zonolite Mine employees received from W.R. Grace pursuant to requests made under section 104(e) of the Comprehensive Environmental Response, Compensation and Liability Act (“CERCLA”), 42 U.S.C. 9604(e), will be included in this system of records.

Authority for Maintenance of the System (includes any revisions or amendments):

CERCLA, 42 U.S.C. 9604(e).

Purpose(s):

To support EPA's CERCLA emergency removal process at the Libby Asbestos Site by assessing exposure pathways and exposure outcomes due to amphibole asbestos, thus enabling EPA to provide long-term protection of public health and welfare.

Routine Uses of Records Maintained in the System, Including Categories of Users and the Purposes of Such Uses:

These records will be used by and disclosed to: A, F, H, and K

Policies and Procedures for Storing, Retrieving, Retaining and Disposing of Records in the System:

Storage:

In file folders and on computer databases. Computer database backup media will be protected in accordance with this notice.

Retrievability:

By name, by address, by identifying code numbers, and social security numbers.

Safeguards:

Computer records are maintained in a secure, password protected computer system. Paper records are maintained in lockable file cabinets. All records are maintained in secure, access-controlled areas or rooms.

Retention and Disposal:

The records will be maintained during the pendency of EPA's investigation and cleanup of the Libby Asbestos Site and for a period in compliance with EPA's records retention requirements. Once these periods have expired, the records will be disposed of in accordance with the applicable records schedule.

System Manager(s) and Address:

Office of Ecosystem Protection and Remediation: Chief, Technical Assistance Unit, Suite 500, 999 18th Street, Denver, CO 80202.

Notification Procedures:

Individuals who want to know whether this system of records contains a record about them, who want access to their record, or who wants to contest the contents of the record, should make a written request to the System Manager.

Record Access Procedure:

Requesters will be required to provide adequate identification, such as a driver's license, employee identification card, or other identifying document. Additional identification procedures may be required in some instances.

Contesting Records Procedure:

Requests for correction or amendment must identify the record to be changed and the corrective action sought. Complete EPA Privacy Act procedures are set out in 40 CFR part 16.

Record Source Categories:

Exposure assessment subjects and individuals identified in W.R. Grace documents.

EPA/GOVT-1

System Name:

Emissions Inspection and Maintenance Records for Federal Employees Parking at Federal Parking Facilities.

System Location:

Personnel or facilities management offices of any federal agency offering federal employees parking in facilities controlled by the federal agency.

Categories of Individuals Covered by the System:

Federal employees routinely permitted to park in facilities controlled by the federal government

Categories of Records in the System:

Name of employee, other personal and location identification at the option of the agency, type of car, license plate or registration number, and demonstration or certification of compliance with state or local emission inspection and maintenance program

Authority for Maintenance of the System (includes any revisions or amendments):

Section 118(d) of the Clean Air Act Amendment of 1990, 42 U.S.C. 7418.

Purpose(s):

To demonstrate that federal employees parking in federally controlled facilities comply with local emission control requirements.

Routine Uses of Records Maintained in the System, Including Categories of Users and the Purposes of Such Uses:

General routine uses A, B, C, E, F, G, H, I, and K apply to this system.

Policies and Practices for Storing, Retrieving, Accessing, Retaining, and Disposing of Records in the System:

Storage:

Records may be maintained in hard copy files or computer databases.

Retrievability:

By name, license plate, or other identifying characteristic.

Safeguards:

Safeguards will vary by agency, but records will be maintained with the same level of security as other personnel or facilities management records.

Retention and Disposal:

Only records from the current vehicle registration cycle are retained. Records are disposed of when out of date or when an employee is no longer parking in a federal facility.

System Manager(s) and Address:

The Director of Personnel or of Facilities Management of the agency.

Notification Procedures:

Any individual who wants to know whether this system of records contains a record about him or her, who wants access to his or her record, or who wants to contest the contents of a record, should make a written request to the System Manager.

Record Access Procedure:

Requesters will be required to provide adequate identification, such as a driver's license, employee identification card, or other identifying document. Additional identification procedures may be required in some instances in accordance with each agency's Privacy Act regulations.

Contesting Records Procedure:

Requests for correction or amendment must identify the record to be changed and the corrective action sought.

Record Source Categories:

Record subjects.

1. List of Addresses for EPA Regional and Other Offices

Region I: One Congress Street, Suite 1100, Boston, MA 02203.

Region II: 290 Broadway, New York, NY 10007.

Region III: 1650 Arch Street, Philadelphia, PA 19103.

Region IV: 61 Forsyth Street, SW., Atlanta, GA 30303.

Region V: 77 West Jackson Boulevard, Chicago, IL 60604.

Region VI: 1445 Ross Avenue, Suite 1200, Dallas, Texas 75202.

Region VII: 726 Minnesota Avenue, Kansas City, KS 66101.

Region VIII: 999 18th Street, Suite 500, Denver, CO 80202.

Region IX: 75 Hawthorne Street, San Francisco, CA 94105.

Region X: 1200 Sixth Avenue, Seattle, WA 98101.

Other EPA Offices

New England Regional Laboratory, 60 Westview Street, Lexington, MA 02173.

Atlantic Ecology Division, 27 Tarzwell Drive, Narragansett, RI 02882.

Criminal Investigation Division, New Haven Resident Office, Robert Giamo Federal Building, 150 Court Street, Room 433, New Haven, CT 06507.

Environmental Services Division, 2890 Woodbridge Avenue, Building 10, Edison NJ 08837.

New Hampshire Resident Office, Hampshire Plaza, 1000 Elm Street, P.O. Box 1507, Manchester, NH 03105.

Communications Division, Niagara Falls Public Information Center, 345 Third Street, Suite 530, Niagara Falls, NY 14303.

Division of Environmental Planning and Protection, Long Island Sound Office, Stamford Government Center, 888 Washington Boulevard, Stamford, CT 06904

Caribbean Environmental Protection Division, Centro Europa Building, 1492 Ponce De Leon Avenue, Santruce, PR 00907.

Caribbean Environmental Protection Division, Virgin Islands Coordinator Office, Federal Office Building & Courthouse, St. Thomas, VI 00802.

Criminal Investigation Division, Edison Resident Office, 2890 Woodbridge Avenue, Edison, NJ 08837.

Criminal Investigation Division, Buffalo Resident Office, 138 Delaware Avenue, Buffalo, NY 14202.

Criminal Investigation Division, Syracuse Resident Office, Hanley Federal Building, 100 S. Clinton Street, 9th Floor, Syracuse, NY 13261.

Environmental Response Team Center, 2890 Woodbridge Avenue, Edison, NJ 08837.

Urban Watershed Management Branch, 2890 Woodbridge Avenue, Edison, NJ 08837.

Trenton Resident Office, U.S. Courthouse Annex, Room 3050, 402 East State Street, Trenton, NJ 08608.

Office of Analytical Services and Quality Assurance Laboratory, 701 Mapes Road, Fort Meade, MD 20755.

Wheeling Office, 303 Methodist Building, 11th and Chapline Streets, Wheeling, WV 26003.

Quality Assurance Office, 701 Mapes Road, Fort Meade, MD 20755.

Chesapeake Bay Program, Annapolis City Marina, 701 Mapes Road, Fort Meade, MD 20755.

Annapolis Operations, 2530 Riva Road, Annapolis, MD 21401.

Analytical Chemistry Laboratory, Building 701 Mapes Road, Fort Meade, MD 20755.

Washington Area Office, 1100 Wilson Boulevard, Arlington, VA 22209.

Environmental Photographic Interpretation Center, 12201 Sunrise Valley Drive, 555 National Center, Reston, VA 20192.

Criminal Investigation Division, Wheeling Resident Office, Methodist Building, 1060 Chapline Street, Wheeling, WV 26003.

Criminal Investigation Division, Annapolis Resident Office, 701 Mapes Road, Fort Meade, MD 20755.

Science and Ecostytems Support Division, 980 College Station Road, Athens, GA 30605.

South Florida Office, 400 North Congress Avenue, West Palm Beach, FL 33401.

Gulf of Mexico Program Office, Building 1103, Stennis Space Center, MS 39529.

Environmental Chemistry Laboratory, Building 1105, Stennis Space Center, MS 39529.

Criminal Investigation Division, Jackson Resident Office, 245 East Capitol Street, Suite 534, Jackson, MS 39201.

National Air and Radiation Environmental Laboratory, 540 South Morris Avenue, Montgomery, AL 36115.

Criminal Investigation Division, Charleston Resident Office, 170 Meeting Street, Suite 300, Charleston, SC 29402.

National Exposure Research Laboratory, MD-75, Research Triangle Park, NC 27711.

Air Pollution Prevention and Control Division, Research Triangle Park, NC 27711.

Office of Air Quality Planning and Standards, 411 West Chapel Hill Street, Durham, NC 27701.

Environmental Research Laboratory, 960 College Station Road, Athens, GA 30605.

Human Studies Division, Clinical Research Branch, Health Effects Research Laboratory, Mason Farm Road, Chapel Hill, NC 27599.

Criminal Investigation Division, Charlotte Resident Office, 227 West Trade Street, Carillon Building, Charlotte, NC 28202.

National Health and Environmental Effects Research Laboratory, Gulf Ecology Division, 1 Sabine Island Drive, Gulf Breeze, FL 32561.

National Center for Environmental Assessment, 3200 Highway 54, Research Triangle Park, NC 27711.

National Health and Environmental Effects Research Laboratory, Research Triangle Park, NC 27711.

Office of Administration and Resources Management, 79TW Alexander Drive, Research Triangle Park, NC 27711.

Office of Inspector General, Washington Field Division, RTP Sub Office, Catawba Building, Research Triangle Park, NC 27711.

Area Office of Civil Rights, Building 4201, 79 Alexander Drive, Research Triangle Park, NC 27711.

Criminal Investigation Division, Miami Resident Office, Brickell Plaza Federal Building, 909 SE First Street, Suite 700, Miami, FL 33121.

Criminal Investigation Division, Nashville Resident Office, Cordell Hull Building, 2nd Floor, 425 5th Avenue, North, Nashville, TN 37243.

Criminal Investigation Division, Knoxville Resident Office, 800 Market Street, Suite 211, Knoxville, TN 37902.

Criminal Investigation Division, Louisville Resident Office, 600 Martin Luther King, Jr. Place, Louisville, KY 40202.

RTP Financial Management Center, 79 TW Alexander Drive, Administration Building, Research Triangle Park, NC 27711.

Criminal Investigation Division, Tampa Resident Office, 400 North Tampa Street, Rm. 3123, Tampa, FL 33602.

Criminal Investigation Division, Jacksonville Resident Office, 325 W. Adams Street, Suite 303, Jacksonville, FL 32202.

Eastern District Office, 25089 Central Ridge Road, Westlake, OH 44145.

National Exposure Research Laboratory, Microbiological and Chemical Exposure Assessment Research Division, 26 West Martin Luther King Drive, Cincinnati, OH 45268.

Center for Environmental Research Information, 26 West Martin Luther King Drive, Cincinnati, OH 45268.

National Center for Environmental Assessment Office, 26 West Martin Luther King Drive, Cincinnati, OH 45268.

Emergency Response Section One, 9311 Groh Road, Gross Ile, MI 48138.

Environmental Research Center, 26 West Martin Luther King Drive, Cincinnati, OH 45268.

National Risk Management Research Laboratory, 26 West Martin Luther King Drive, Cincinnati, OH 45268.

ORD Publications Office, Center for Environmental Research Information, 26 West Martin Luther King Drive, Cincinnati, OH 45268.

Cleveland Area Office, Islander Office Park, Building One, 7550 Lucerne Drive, Suite 305, Middleburg Heights, OH 44130.

National Vehicle and Fuel Emissions Laboratory, 2565 Plymouth Road, Ann Arbor, MI 48105.

Mid Continent Ecology Division, 6201 Congdon Boulevard, Duluth, MN 55804.

Area Office of Civil Rights, 26 West Martin Luther King Drive, Cincinnati, OH 45268.

Office of Senior Official for Research and Development, 26 West Martin Luther King Drive, Cincinnati, OH 45268.

Research Triangle Park Financial Management Center, 79 TW Alexander Drive, Research Triangle Park, NC 22771.

Criminal Investigation Division, Detroit Resident Office, 9311 Groh Road, Gross Ile, MI 48138.

Criminal Investigation Division, Indianapolis Resident Office, US Courthouse, 46 East Ohio Street, Indianapolis, IN 46204.

Great Lakes Research Station, 9311 Groh Road, Gross Ile, MI 48138.

National Environmental Supercomputing Center, 135 Washington Avenue, Bay City, MI 48708.

Cincinnati Financial Management Center, Cincinnati, OH 45268.

Criminal Investigation Division, Minneapolis Resident Office, 300 South 4th Street, Minneapolis, MN 55415.

Criminal Investigation Division, Chicago Area Office, 300 S. Riverside, Chicago, IL 60606.

USEPA Region 6 Laboratory, Houston Branch, 10625 Fallstone Road, Houston, TX 77099.

U.S. Mexico Border Program Office, 4050 Rio Bravo, El Paso, TX 79902.

USEPA Underground Injection Control, Pawhuska Section, P.O. Box 1495, Pawhuska, OK 74056.

Brownsville Border Office, 3505 Boca Chica, Brownsville, TX 78251.

National Risk Management Research Laboratory, Subsurface Protection and Remediation Division, Robert S. Kerr Environmental Research Center, P.O. Box 1198, Ada, OK 74821.

Criminal Investigation Division, Houston Area Office, 1919 Smith Street, Suite 925, Houston, TX 77002.

Criminal Investigation Division, Albuquerque Resident Office, 3305 Calle Cuervo, NW, #325, Albuquerque, NM 87114

Criminal Investigation Division, Baton Rouge Resident Office, 750 Florida Street, Baton Rouge, LA 70801.

Environmental Services Division, 25 Funston Road, Kansas City, KS 66115.

Criminal Investigation Division St. Louis Area Office, 1222 Spruce, St. Louis, MO 63103.

Criminal Investigation Division, Kansas City Resident Office, US Courthouse, 500 State Avenue, Kansas City, KS 66101.

Montana Operations Office, Federal Building, 301 South Park, Helena, MT 59286.

National Enforcement Investigations Center, Building 53, Denver, CO 80225.

Office of Enforcement Compliance and Assurance, Mobile Source Enforcement, Western Field Office, 12345 West Alameda Parkway, Lakewood, CO 80228.

Center for Strategic Environmental Enforcement, 12345 West Alameda Parkway, Lakewood, CO 80228.

USEPA Region 8, Denver Federal Center, Laboratory Services Program, Building 53, Denver CO 80225.

National Enforcement Training Institute West, 12345 West Alameda Parkway, Lakewood, CO 80228.

Criminal Investigation Division, Helena Resident Office, 301 South Park, Helena, MT 59626.

Criminal Investigation Division, Salt Lake City Resident Office, Wallace F. Bennett Federal Building, 125 South State Street, Salt Lake City, UT 84138.

Pacific Island Contact Office, P.O. Box 50003, 300 Ala Moana Boulevard, Honolulu, HI 96850.

Honolulu Resident Office, 449 South ?Ave., Bldg. 221, 2nd Floor, Pearl Harbor, HI 96860.

San Diego Border Office, 610 West Ash Street, San Diego, CA 92101.

USEPA Region 9 Laboratory, 1337 South 46th Street, Richmond, CA 94804.

Los Angeles Area Office, 600 South Lake Ave., Suite 202, Pasadena, CA 91106.

Area Office of Civil Rights, PO Box 93478, Las Vegas, NV 89193.

Human Resources Office at Las Vegas, PO Box 98516, Las Vegas, NV 89193.

Criminal Investigation Division, Sacramento Resident Office, 501 Eye Street, Suite 9-800, Sacramento, CA 95814.

Office of Inspector General for Audits, Western Division, Sacramento Field Audit Office, 801 I Street, Sacramento, CA 95814.

Criminal Investigation Division, San Diego Resident Office, 610 West Ash Street, San Diego, CA 92101.

Environmental Sciences Division, National Exposure Research Laboratory, P.O. Box 93478, Las Vegas, NV 89193.

Las Vegas Financial Management Center, PO Box 98515, Las Vegas, NV 89193.

Criminal Investigation Division, 600 South Lake Avenue, Pasadena, CA 91106.

Radiation and Indoor Environments National Laboratory, PO Box 98517, Las Vegas, NV 89193.

Criminal Investigation Division, 522 North Central Avenue, Phoenix, AZ 85004.

Alaska Operations Office, Federal Building, 222 West 7th Avenue, Anchorage, AK 99513.

Alaska Operations Office, 410 Willoughby Avenue, Juneau, AK 99801.

Oregon Operations Office, 811 S.W. Sixth Avenue, Portland, OR 97204.

Hanford Project Office, 712 Swift Boulevard, Richland, WA 99352.

Idaho Operations Office, 1435 North Orchard Street, Boise, ID 83706.

Boise Resident Office, 877 West Main St., Suite 201, Boise, ID 83702.

Manchester Laboratory, 7411 Beach Drive East, Port Orchard, WA 98366.

Washington Operations Office, 300 Desmond Drive SE, Lacey, WA 98503.

National Health and Environmental Effects Research Laboratory, Western Ecology Division, 200 S.W. 35th Street, Corvallis, OR 97333.

National Health and Environmental Effects Research Laboratory, Western Ecology Division, Hatfield Marine Science Drive, 211 S.E. Marine Science Drive, Newport, OR 98365.

Criminal Investigation Division, Portland Resident Office, 1001 South West 5th Avenue, Portland, OR 97204.

Criminal Investigation Division, Anchorage Resident Office, 222 West 7th Avenue, Anchorage, AK 99513.

[FR Doc. 01-24485 Filed 9-28-01; 8:45 am]

BILLING CODE 6560-50-P